FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011960-001.

Title: The New World Alliance Agreement.

Parties: American President Lines, Ltd. and APL Co. Pte, Ltd. (“APL”); Hyundai Merchant Marine Co., Ltd. (“HMM”); and Mitsui O.S.K. Lines, Ltd.

Filing Party: David B. Cook, Esq.; Goodwin Procter LLP; 901 New York Avenue, NW; Washington, DC 20001.

Synopsis: The amendment would add provisions authorizing APL to subcharter space to CMA CGM, S.A. and HMM to subcharter space to the Evergreen Line Joint Service Agreement.

Agreement No.: 011982-002.

Title: Evergreen Line Joint Service Agreement.

Parties: Evergreen Marine Corp. (Taiwan) Ltd.; Evergreen Marine (UK) Ltd.; Italia Marittima S.p.A.; and Evergreen Marine (Hong Kong) Ltd.

Filing Party: Paul M. Keane, Esq.; 61 Broadway; Suite 3000; New York, NY 10006-2802.

Synopsis: The amendment removes the footnote indicating that Evergreen Marine (Hong Kong) will operate solely in non-U.S. trades.

By Order of the Federal Maritime Commission.
Dated: July 20, 2007.
Bryant L. VanBrakle,
Secretary.

[FR Doc. E7-14395 Filed 7-24-07; 8:45 am]

BILLING CODE 6730-01-P